FEDERAL HOUSING FINANCE BOARD

Sunshine Act Meeting Notice; Announcing a Partially Open Meeting of the Board of Directors

Time and date: The open portion of the meeting of the Board of Directors is scheduled to begin at 1 p.m. on Wednesday, September 10, 2003. The closed portion of the meeting will follow immediately the open portion of the meeting.

Place: Board Room, Second Floor, Federal Housing Finance Board, 1777 F Street, NW., Washington, DC 20006.

Status: The first portion of the meeting will be open to the public. The final portion of the meeting will be closed to the public.

Matters to be considered at the open portion of meeting: Proposed Rule Regarding Registration of Federal Home Loan Bank Securities Under the Securities Exchange Act of 1934. Consideration of a proposed rule to require each Bank to register a class of its securities with the Securities and Exchange Commission under the provisions of section 12(g) of the Securities Exchange Act of 1934.

Appointment of the Private Citizen Member of the Office of Finance Board of Directors. Consideration of the nomination of an individual to serve as the private citizen member and chair of the Office of Finance board of directors.

Withdrawal of Proposed Rule Regarding Acquired Member Assets (AMA). Withdrawal of a proposed rule (68 FR 39027 (July 12, 2003)) that would have revised the AMA regulation to create less prescriptive requirements, to provide each Federal Home Loan Bank (Bank) with greater responsibility for managing its AMA program, and to codify a prior Federal Housing Finance Board (Finance Board) decision regarding interests in whole loans.

Federal Housing Finance Board Fiscal Year 2004 Budget.

Matters to be considered at the closed portion of meeting:

Periodic Update of Examination Program Development and Supervisory Findings.

FOR FURTHER INFORMATION CONTACT: Mary Gottlieb, Paralegal Specialist, Office of General Counsel, by telephone at 202/408-2826 or by electronic mail at gottliebm@fhfb.gov.

Dated: September 3, 2003.
By the Federal Housing Finance Board.
Arnold Intrater,
General Counsel.

[FR Doc. 03-22950 Filed 9-4-03; 2:55 pm]

BILLING CODE 6725-01-P